DEPARTMENT OF ENERGY

Federal Energy Regulatory Commission

[Project No. 12478-003]

Gibson Dam Hydroelectric Company, LLC; Notice Soliciting Comments, and Final Terms and Conditions, Recommendations, and Prescriptions

May 26, 2010.

Take notice that the following hydroelectric application and applicant-prepared environmental assessment (EA) has been filed with the Commission and is available for public inspection.

a. Type of Application: Major Project—Existing Dam.

b. Project No.: P-12478-003.

c. Date filed: August 28, 2009.

d. Applicant: Gibson Dam Hydroelectric Company, LLC.

e. Name of Project: Gibson Dam Hydroelectric Project.

f. Location: On the Sun River, near the towns of Augusta and Fairfield, Lewis and Clark and Teton Counties, Montana. The project would occupy 44.0 acres of Federal land administered by the U. S. Forest Service and 24.5 acres of Federal land administered by the U.S. Bureau of Land Management for a total of 68.5 acres of Federal land.

g. Filed Pursuant to: Federal Power Act, 16 U.S.C. 791(a)-825(r).

h. Applicant Contact: Steve C. Marmon, Thom A. Fischer, Whitewater Engineering Corporation, 3633 Alderwood Ave., Bellingham, WA 98225, (360) 738-9999.

i. FERC Contact: Matt Cutlip, phone: (503) 552-2762, e-mail: matt.cutlip@ferc.gov.

j. Deadline for filing comments, recommendations, terms and conditions, and fishway prescriptions: 60 days from the issuance date of this notice. All reply comments must be filed with the Commission within 105 days from the date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. Project Description: The proposed project would utilize the existing facilities of the U.S. Bureau of Reclamation's (Reclamation's) Gibson dam including the reservoir, existing valve house, and two existing dam outlet pipes; and would consist of the following new facilities: (1) Two new 72-inch-diameter penstocks extending 40 feet from the existing outlet pipes to the powerhouse; (2) a new powerhouse located near the toe of the dam with four turbine/generating units with total installed capacity of 15 megawatts; (3) a new 26.2-mile, 34.5/69-kV overhead and underground transmission line from the powerhouse to an interconnection point with Sun River Electric Cooperative, Inc.'s existing 69-kV transmission line at Jackson's Corner; (4) a new 34.5/69 kV step-up substation; (5) a new maintenance building located approximately 1,400 feet downstream of the powerhouse adjacent to existing Gibson dam operations facilities; and (6) appurtenant facilities. The average annual generation is estimated to be 40 gigawatt-hours.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b), and 385.2010.

m. EA Preparation Schedule: The draft and final EA will be prepared according to the following schedule. Revisions to the schedule may be made as appropriate.

Milestone | Target date
Filing of Motions to Intervene and Protests | June 21, 2010.
Filing of Comments, Final Recommendations, |
Final Terms and Conditions, and Fishway Prescriptions | July 26, 2010.
Reply Comments due | September 9, 2010.
Issue Draft EA | December 8, 2010.
Comments on Draft EA due | January 7, 2011.
Issue Final EA | May 17, 2011.

Kimberly D. Bose,
Secretary.

[FR Doc. 2010-13276 Filed 6-1-10; 8:45 am]

BILLING CODE 6717-01-P